DEPARTMENT OF DEFENSE

Department of the Army; Corps of Engineers

Availability of Draft Supplemental Environmental Impact Statement (DSEIS) For Proposed Changes to the Chickamauga Lock Project, Hamilton County, TN

AGENCY: Army Corps of Engineers, DoD.

ACTION: Notice of availability.

SUMMARY: The Corps of Engineers, Nashville District, and the Tennessee Valley Authority (Cooperating Agency) has prepared a Draft Supplemental Environmental Impact Statement (DSEIS) to the 1995 Environmental Impact Statement titled Chickamauga Dam—Navigation Lock Project Final Environmental Impact Statement (FEIS). This supplement is necessary to provide information unknown and not required at the time the FEIS was completed.

DATES: Written comments must be received by the Corps of Engineers on or before January 29, 2002.

ADDRESSES: Written comments on issues to be considered in the SEIS shall be mailed to: Wayne Easterling or Patty Coffey, Project Planning Branch, Nashville District Corps of Engineers, PO Box 1070 (PM-P), Nashville, Tennessee 37202-1070.

FOR FURTHER INFORMATION CONTACT: For additional information concerning the notice, please contact Wayne Easterling, Environmental Team, (615) 736-7847, or Patty Coffey, Environmental Team, (615) 736-7865.

SUPPLEMENTARY INFORMATION: 1. The intent of the Supplemental EIS is to provide National Environmental Policy Act coverage for the Chickamauga Lock project on issues that were unknown or not required when the original EIS was prepared. The original EIS for Chickamauga Lock was completed in 1995 and a Record of Decision signed in 1996. The original EIS considered four alternatives including no action (closing the existing lock), constructing a new 110 × 600 foot lock (preferred alternative), constructing a new 60 × 360 foot lock (replacement in kind) and constructing a new 75 × 400 foot lock. The SEIS now proposed will cover cumulative effects and compliance with section 106 of the Historic Preservation Act. Coordination with the U.S. Fish and Wildlife Service will include a Biological Assessment/Opinion for Endangered Species Act and a Fish and Wildlife Coordination Act Report.

2. This notice serves to solicit comments from the public; federal, state and local agencies and officials; Indian Tribes; and other interested parties in order to consider and evaluate the impacts of this proposed activity. Any comments received by us will be considered during the preparation of this Supplemental Environmental Impact Statement.

Luz D. Ortiz,
Army Federal Register Liaison Officer.

[FR Doc. 01-31004 Filed 12-14-01; 8:45 am]

BILLING CODE 3710-GF-M